DEPARTMENT OF TRANSPORTATION

Federal Highway Administration

Participation in the Fiscal Year 2003 Intelligent Transportation Systems (ITS) Deployment Program

AGENCY: Federal Highway Administration (FHWA), U.S. DOT.

ACTION: Notice; request for preliminary applications.

SUMMARY: The FHWA is requesting preliminary applications from public/public or public/private partnerships to determine qualifications for participation in the Fiscal Year (FY) 2003 Intelligent Transportation Systems (ITS) Deployment Program. The focus of the FY 2003 ITS Deployment Program is to provide incentive monies for the deployment and/or integration of ITS to enhance the security of our surface transportation systems. Those preliminary applications that demonstrate an ability to meet the selection criteria will be considered for funding and will be asked to provide a more detailed technical proposal and financial plan prior to approval and the receipt of funds.

DATES: Preliminary applications to determine qualifications for participation in the ITS Deployment Program must be received before 4 p.m., e.t., Friday, April 1, 2002.

ADDRESSES: Preliminary applications to participate in either component of the ITS Deployment Program should be submitted directly to the FHWA, ITS Joint Program Office, HOIT, Department of Transportation, 400 Seventh St., SW., Room 3404, Washington, DC 20590.

FOR FURTHER INFORMATION CONTACT: For the ITS Integration Program: Mr. Michael Freitas, FHWA, ITS Joint Program Office, (202) 366-9292; Mr. Ron Boenau, FTA, Office of Mobility Innovation, (202) 366-0195; Mr. Mark Kehrli, FHWA, Office of Travel Management, (202) 366-5465; or Ms. Gloria Hardiman-Tobin, FHWA, Office of Chief Counsel, (202) 366-0780, Department of Transportation, 400 Seventh Street, SW., Washington, DC 20590. Office hours are from 7:45 a.m. to 4:15 p.m., e.t., Monday through Friday, except Federal holidays.

For the Commercial Vehicle ITS Deployment Program: Ms. Katherine Hartman, FHWA , ITS Joint Program Office, (202) 366-2742; Mr. Jeffrey Secrist, FMCSA, Office of Research and Technology, (202) 358-5658; or Ms. Gloria Hardiman-Tobin, FHWA, Office of Chief Counsel, (202) 366-0780, Department of Transportation, 400 Seventh Street, SW., Washington, DC 20590. Office hours are from 7:45 a.m. to 4:15 p.m., e.t., Monday through Friday, except Federal holidays.

SUPPLEMENTARY INFORMATION:

Electronic Access

An electronic copy of this document may be downloaded using a modem and suitable communications software from the Government Printing Office Electronic Bulletin Board Service at (202) 512-1661. Internet users may reach the Office of the Federal Register's home page at http://www.nara.gov/fedreg and the Government Printing Office's Web page at http://www.access.gpo.gov/nara. The document may also be downloaded using a modem and suitable communications software from the U.S. DOT's ITS page at http://www.its.dot.gov.

Table Of Contents

I. Background

II. Purpose of the ITS Deployment Program

III. Solicitation Intent

IV. Criteria For Participation in the ITS Deployment Program

V. Limitations on Funding for the ITS Deployment Program

VI. Federal Share of Project Costs

VII. Evaluation of Benefits

VIII. Instructions to ITS Deployment Program Applicants

IX. Selection Criteria

I. Background

The ITS Deployment Program was established by the Transportation Equity Act for the 21st Century (TEA-21)(Public Law 105-178, 112 Stat. 107, (1998)). The ITS Deployment Program described in sections 5001(a)(6) and (c)(4) of TEA-21 encompasses the ITS Integration Program and the Commercial Vehicle Intelligent Transportation System Infrastructure Deployment Program (Commercial Vehicle ITS Deployment Program). Section 5208 of the TEA-21 establishes the ITS Integration Program to accelerate the integration and interoperability of intelligent transportation systems in metropolitan and rural areas. Section 5209 of the TEA-21 establishes the Commercial Vehicle ITS Deployment Program to deploy intelligent transportation systems that improve the safety and productivity of commercial vehicles and drivers, and to reduce costs associated with commercial vehicle operations and Federal and State commercial vehicle regulatory requirements.

For FY 2003, the ITS Integration Program provides $85,000,000 in Federal ITS funding for the integration of multi-modal ITS components in metropolitan areas, rural areas, or in statewide, multi-State, or multi-city settings. In FY 2003, the Commercial Vehicle ITS Deployment Program provides $35,500,000 in Federal ITS funding to improve the safety and productivity of commercial vehicles and drivers, and reduce costs associated with commercial vehicle operation and regulatory requirements.

II. Purpose of the ITS Deployment Program

Section 5208 establishes the ITS Integration Program to accelerate the integration and interoperability of intelligent transportation systems in metropolitan and rural areas. (emphasis added)

Additionally, section 5208(a) states that projects selected for funding, through competitive solicitation, will serve as models to improve transportation efficiency, promote safety (including safe freight movement), increase traffic flow (including the flow of intermodal travel at ports of entry), reduce emissions of air pollutants, improve traveler information, enhance alternative transportation modes, build on existing intelligent transportation system projects, or promote tourism.

Section 5209 of the TEA-21 establishes the Commercial Vehicle ITS Deployment Program to improve the safety and productivity of commercial motor vehicles and drivers; and reduce the costs associated with commercial vehicle operations and Federal and State commercial vehicle regulatory requirements.

According to section 5209(b), the purpose of the Commercial Vehicle ITS Deployment Program is to advance the technological capability and promote the development of intelligent transportation system applications to commercial vehicle operations, including commercial vehicle, commercial driver, and carrier-specific information systems.

III. Solicitation Intent

Recent events have focused attention on the need to ensure the security of our nation's transportation system. ITS technologies offer the opportunity to significantly improve transportation security in several ways. First, innovative surveillance technologies and applications offer the potential to monitor critical infrastructure elements. These critical elements include critical bridges and tunnels, key subway stations or multi-modal facilities, multi-modal freight facilities, and highway or transit operations centers. The technology monitoring may continuously determine the status of these elements, identify potential risks to these critical elements, and immediately report any changes in the status of these critical elements. Second, these same surveillance systems may be used to better monitor operations on the surface transportation systems to improve the ability to identify security related incidents and better locate those incidents and to assure safe operations during more routing operations. Third, ITS technologies may provide for improved coordinated responses to these same incidents through improved traffic management, traveler information, transit system management, and/or public safety coordination. Fourth, ITS technologies may ensure the secure operation of commercial motor vehicles, their drivers, and their cargo. Fifth, improved communication networks and systems may help to better identify high risk commercial vehicles or drivers.

For these reasons, the FHWA has determined that there is a critical need to focus the FY 2003 ITS Deployment Program on the application of ITS technologies that enhance the security of surface transportation systems. The objective is to provide incentive monies for the deployment and/or integration of ITS for the express purpose of enhancing the security of our surface transportation systems.

IV. Criteria for Participation in the ITS Deployment Program

Section 5208 of TEA-21 states that projects selected for ITS Integration Program funding shall:

1. Contribute to national deployment goals and objectives outlined in the National ITS Program Plan; (Note that a synopsis of the National ITS Program Plan can be downloaded from the ITS Electronic Document Library (EDL) at http://www.its.dot.gov. The EDL number is 3845.)

2. Demonstrate a strong commitment to cooperation among agencies, jurisdictions, and the private sector, as evidenced by signed memoranda of understanding (MOUs) that clearly define the responsibilities and relations of all parties to a partnership arrangement, including institutional relationships and financial agreements needed to support integrated deployment;

3. Encourage private sector involvement and financial commitment, to the maximum extent practicable, through innovative financial arrangements, especially public-private partnerships, including arrangements that generate revenue to offset public investment costs;

4. Demonstrate commitment to a comprehensive plan of fully integrated ITS deployment in accordance with the national ITS architecture and standards and protocols;

5. Be part of approved plans and programs developed under applicable statewide and metropolitan transportation planning processes and applicable State air quality implementation plans, as appropriate, at the time at which Federal ITS funds are sought;

6. Minimize the relative percentage and amount of Federal ITS funding to total project costs;

7. Ensure continued, long-term operations and maintenance without continued reliance on Federal ITS funding as evidenced by documented evidence of fiscal capacity and commitment from anticipated public and private sources;

8. Demonstrate technical capacity for effective operations and maintenance or commitment to acquiring necessary skills;

9. Mitigate any adverse impacts on bicycle and pedestrian transportation and safety;

10. In the case of a rural area, meet other safety, mobility, geographic and regional diversity, or economic development criteria; or

11. Encourage multi-state cooperation and corridor development.

Section 5209 of TEA-21 states that projects selected for Commercial Vehicle ITS Deployment Program funding shall:

1. Encourage multistate cooperation on corridor development;

2. Improve the safety of commercial vehicle operation and increase the efficiency of regulatory inspection processes to reduce administrative burdens by advancing technology to facilitate inspections and generally increase the effectiveness of enforcement efforts;

3. Advance electronic processing of registration information, driver licensing information, fuel tax information, inspection and crash data, and other safety information and promote communication of the information among the States; or

4. Enhance the safe passage of commercial vehicles across the United States and across international borders.

V. Limitations on Funding for the ITS Deployment Program

Federal funding authority for the ITS Deployment Program comes from section 5001(a)(6) of the TEA-21. The preliminary applications requested through this solicitation will be for funds that are anticipated to be appropriated for FY 2003. Requests for more detailed proposals from qualified applicants will depend on, and be shaped by, the availability of funds for this program in FY 2003.

Section 5208 of the TEA-21 requires that for metropolitan area ITS Integration Program projects, funding shall be used primarily for activities necessary to integrate ITS infrastructure elements that are either deployed (legacy systems) or will be deployed with other sources of funds. The purchase or construction of hardware is not considered an integration activity, and should utilize other sources of funds. For projects outside of metropolitan areas (i.e., statewide or rural areas), the TEA-21 states that funding may be used for integration purposes, as well as for limited deployment of ITS infrastructure components to support integration.

Section 5208 projects of various sizes are eligible. However, the TEA-21 directs that awards shall be limited to $15 million in a single metropolitan area, and $2 million in a single rural area. No more than $35 million shall be awarded within a State. Of the available funding, not less than 10 percent will be available for non-metropolitan areas.

Section 5209 of the TEA-21 does not limit the use of Commercial Vehicle ITS Deployment Program funding for integration versus deployment nor does it limit the amount of funding that can be awarded to any region or State. The proposed project should support the goals of the Commercial Vehicle ITS Deployment Program, as outlined in section 5209.

VI. Federal Share of Project Costs

The Federal share of the cost of ITS Deployment Program projects shall not exceed 50 percent. Additionally, the total Federal share of the cost of a project payable from all eligible sources shall not exceed 80 percent. The remaining 20 percent of the project cost must be from non-federally derived funding sources. This 20 percent of the project cost must consist of either cash, substantial equipment contributions that are wholly utilized as an integral part of the project, or personnel services dedicated full-time to the proposed integrated deployment for a substantial period, as long as such personnel are not otherwise supported with Federal funds. The non-federally derived funding may come from State, local government, or private sector partners.

Funds provided in addition to the required 20 percent minimum may come from a variety of funding sources, and may include the value of federally-supported projects directly associated with the integration project. Note that funding identified to support continued operations, maintenance, and management of the system will not be considered as part of the partnership's cost-share contribution.

VII. Evaluation of Benefits

Independent Evaluations

The FHWA may conduct with non-project funds, independent evaluations of the benefits resulting from specific projects proposed for funding under the ITS Deployment Program. The decision to evaluate the benefits of a specific project will be made on a case-by-case basis, reflecting the information needs of the FHWA. Independent evaluations will be conducted in accordance with the guidelines, provisions, and evaluation funding levels as directed by the TEA-21 and as reflected in the TEA-21 Evaluation Guidelines, which can be found at the following Internet site, http://www.its.dot.gov/EVAL/evalguidelines.html. The application shall explicitly state that if selected for independent evaluations, the proposed project shall cooperate with the independent evaluators and participate in evaluation planning and progress review meetings to ensure a mutually acceptable, successful implementation of the independent evaluation.

Local Evaluations

To ensure sound management practice, each project shall perform a local evaluation funded from project or other resources. The application shall explicitly state that the proposed project will develop a Local Evaluation Report. The report shall include a general overall assessment of the project, other specific evaluation products, or activities as appropriate, and an executive summary.

VIII. Instructions to ITS Deployment Program Applicants

A preliminary application to participate in the ITS Deployment Program shall contain the following information:

1. An identification of the project partners and other key stakeholders in the proposed project. The proposed partnership should demonstrate, and provide evidence of, a strong commitment to cooperation among agencies, jurisdictions, and, as appropriate, the private sector. Partnerships that include a public safety agency (or agencies) and/or a transit agency (or agencies) are strongly encouraged. For the purposes of this application, MOUs or other formal partnership agreements are not required at this time, but copies of existing MOUs or other partnership agreements should be included with the preliminary application.

2. A very brief listing of existing and planned ITS deployments, and a short description of the project that is proposed for funding to support surface transportation security. The description should clearly identify and describe the security function(s) that will be provided and demonstrate a strong commitment to cooperation among agencies, jurisdictions, and as appropriate, the private sector, on both long-range ITS planning and investment decisions, and short-range operation and management issues. Project proposals should also discuss the degree to which long-term and or day-to-day safety of the surface transportation system will be enhanced, if any. Any other potential operational or other benefits of the proposed project should also be described.

Note: The FHWA has determined that deployment of Commercial Vehicle Information Systems and Networks (CVISN) in a State would enhance transportation security and therefore applications under section 5209 that propose to advance the deployment of CVISN will be considered.

3. For each of the TEA-21 selection criteria listed above in section IV, Criteria for Participation in the ITS Deployment Program, an assessment of how the proposed project addresses the criteria. Any criteria that are not applicable to the project should be so identified.

4. A brief financial summary that includes:

(a). Project cost;

(b). Matching funds and sources; and

(c). How long term operations and maintenance will be supported.

Preliminary applications to determine qualifications for participation in the ITS Deployment Program may be submitted by partnerships representing large or small metropolitan areas, regional areas, rural areas, statewide or multi-State regions. The proposed projects should meet documented local or State needs, focus on the integration of ITS technologies, and strengthen institutional ties across jurisdictions, modes, and operating agencies.

Because this is a preliminary application, we request that the package not exceed 15 pages in length, including the title page, tables, maps, appendices, abstracts, and other supporting materials. A page is defined as one side of an 8½ by 11 inch paper, with a type font no smaller than 12 point.

Ten copies, plus an electronic copy, in Microsoft Word format, shall be submitted to the FHWA, ITS Joint Program Office, HOIT, 400 Seventh St., SW., Room 3416, Washington, DC 20590. The cover sheet or front page of the preliminary application shall include the name, address, and phone number of an individual to whom correspondence and questions about the preliminary application package may be directed. The application and its contents shall be non-proprietary.

IX. Selection Criteria

Applicants must submit acceptable preliminary application packages that provide sound evidence that the proposed partnership can successfully meet the objectives of the ITS Deployment Program.

The following criteria, in order of importance, will be used in selecting areas for participation in the ITS Deployment Program.

1. Partnerships. The proposed partnership demonstrates and provides historic evidence of a strong commitment to cooperation among agencies, jurisdictions, and, as appropriate, the private sector.

2. Technical Approach. The Technical Approach must address how the proposed deployment and integration of intelligent transportation infrastructure elements into the region's transportation system will further the goal of transportation security. For applications under section 5208 of the TEA-21, the ITS Integration Program, elements to be considered include: traffic management, transit management, incident management, emergency management services, and regional multi-modal traveler information services. For applications under section 5209 of the TEA-21, the Commercial Vehicle ITS Deployment Program, elements to be considered include: improvements of the safety and productivity of commercial vehicles and drivers, the reduction of costs associated with commercial vehicle operations, and Federal and State commercial vehicle regulatory requirements.

3. TEA-21 Criteria. The application must address how it meets each of the pertinent TEA-21 criteria listed above in section IV, Criteria for Participation in the ITS Deployment Program.

4. Financial Summary. The Financial Summary must demonstrate that sufficient funding, including the required matching funds, is available to successfully complete all aspects of the proposed deployment or integration as described in the Technical Plan. The Financial Summary must provide the financial information described under section VIII, Instructions to Applicants.

Those preliminary applications that demonstrate an ability to meet the criteria will be considered as potential candidates for funding in FY 2003. The number of applicants funded, if any, will depend on the availability of funding in FY 2003. A more detailed technical proposal and financial plan will be requested prior to approval and receipt of funds.

Authority: 23 U.S.C. 315, secs. 5001(a)(6) and (c)(4), 5208, and 5209, Pub. L. 105—178, 112 Stat. 107, at 419-421 and 458—461 (1998); and 49 CFR 1.48.

Issued on: January 22, 2002.
Mary E. Peters,
FHWA Administrator.

[FR Doc. 02-2091 Filed 1-28-02; 8:45 am]

BILLING CODE 4910-22-P